DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-02NT41613 entitled Development of Technologies and Capabilities for Developing Coal, Oil, and Gas Energy Resources. The Department of Energy (DOE), National Energy Technology Laboratory (NETL), is conducting this solicitation to competitively seek cost-shared applications for research and development of technologies enabling development of energy resources needed to ensure the availability of affordable energy for the Nation's future.

DATES: Potential applicants are required to submit a technical application, not to exceed twenty-five (25) pages. Based on the technical application, applicants will be selected to enter into negotiations leading to award of a cooperative agreement (financial assistance) for the project. All applications must be submitted through the Industry Interactive Procurement System (IIPS) system in accordance with the instructions in the solicitation. The solicitation will be available on DOE/NETL's Internet address at http://www.netl.doe.gov/business and on the “Industry Interactive Procurement System” (IIPS) webpage located at http://e-center.doe.gov on or about August 21, 2002. The deadline for submission of technical applications for each of the three evaluation periods will be identified in the solicitation.

FOR FURTHER INFORMATION CONTACT: Larry D. Gillham, MS 921-162, U.S. Department of Energy, National Energy Technology Laboratory, P.O. Box 10940, 626 Cochrans Mill Road, Pittsburgh, PA 15236-0940, e-mail Address: gillham@netl.doe.gov. Telephone Number: (412) 386-5817.

SUPPLEMENTARY INFORMATION: Through this solicitation, NETL seeks applications in the following thirteen (13) separate (i.e., stand alone) Areas of Interest:

Coal & Environmental Systems

(1) Combustion Systems.

(2) Environmental and Water Resources.

(3) Carbon Sequestration.

(4) Power Systems Advanced Research.

(5) Vision 21 Technologies.

(6) Coal Fuels and Hydrogen.

(7) Gasification—Not Available for Evaluation Period 1.

Strategic Center for Natural Gas

(8) Fuel Cells.

(9) Gas Exploration, Production, Storage, and Hydrates.

(10) Infrastructure Reliability for Natural Gas.

Petroleum

(11) Oil and Gas Environmental: Upstream.

(12) Petroleum Fuels.

(13) Transportation Fuels and Chemicals * * *.

Applicants must select and target only one (1) Area of Interest per application. DOE anticipates the award of multiple cost-sharing cooperative agreements under each Area of Interest. Approximately $23.85 million of DOE funds is planned for this solicitation which will cover all Areas of Interest and all evaluation periods. It is anticipated that a total of 50-75 awards will be made as a result of this solicitation. In accordance with Section 3002 of the Energy Policy Act (EPAct), a minimum of 20% cost share will be required for each project. This solicitation includes multiple closing dates. Applicants will submit a technical application and after agency evaluation, the applicant will receive an e-mail notification that they have or have not been selected for negotiations leading to award. Those applicants selected for negotiations leading to award will be instructed in the notification e-mail that they must submit cost and other documentation as described in the solicitation. Selected applicants will generally have less than 30 days to submit the required cost and other documentation. Once released, the solicitation will be available for downloading from the IIPS Internet page, http://e-center.doe.gov. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS. No hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on August 16, 2002.
Dale A. Siciliano,
Deputy Director, Acquisition and Assistance Division.

[FR Doc. 02-21513 Filed 8-22-02; 8:45 am]

BILLING CODE 6450-01-P